DEPARTMENT OF THE INTERIOR

Bureau of Reclamation

Pajaro Valley Water Management Agency Basin Management Plan Update Project, Santa Cruz and Monterey Counties, CA

AGENCY: Bureau of Reclamation, Interior.

ACTION: Notice of Intent to prepare an environmental impact statement (EIS).

SUMMARY: Pursuant to section 102(2)(c) of the National Environmental Policy Act (NEPA), the Bureau of Reclamation (Reclamation) proposes to prepare an EIS for Pajaro Valley Water Management Agency's (PVWMA) Basin Management Plan Update Project.

The Proposed Action is the approval of the connection of a pipeline to the Santa Clara Conduit, the delivery to and use of Central Valley Project (CVP) water in the Pajaro Valley, and the funding for the design, planning, and construction of a recycled water facility. CVP water to be delivered includes an existing contract assignment from the Mercy Springs Water District to PVWMA, and additional CVP water supplies, including additional contract assignments as required to balance water demands with water supplies in the Pajaro Valley Basin. The facilities that would be constructed for the Proposed Action include a 23-mile-long pipeline and tertiary treatment facilities at the existing Watsonville Wastewater Treatment Plant. Once constructed, these facilities would be operated and maintained by the PVWMA to provide a long-term supplemental supply of water to balance water demands with water supplies in the Pajaro Valley Basin. The Proposed Action is intended to address groundwater overdraft and seawater intrusion problems in the Pajaro Valley Basin.

Through an initial scoping meeting, Reclamation will seek public input on this and other alternatives for consideration in the EIS.

DATES: The scoping meeting will be held in Watsonville, California, on August 29, 2001, at 6 p.m.

Submit written comments on the scope of the alternatives and impacts to be considered on or before October 2, 2001.

ADDRESSES: The scoping meeting will be held at the Watsonville Senior Center, 114 East 5th Street, Watsonville, CA 95076.

Written comments on the scope of the alternatives and impacts to be considered should be sent to Mr. David Young, Bureau of Reclamation, South-Central California Area Office, 1243 N Street, Fresno, CA 93721-1813; or by telephone at (559) 487-5127; or faxed to (559) 487-5130 (TDD 559-487-5933).

FOR FURTHER INFORMATION CONTACT: Mr. David Young, Bureau of Reclamation, (559) 487-5127; or Mr. Charles McNiesh, Pajaro Valley Water Management Agency, (831) 722-9292.

SUPPLEMENTARY INFORMATION:

Pajaro Valley Water Management Agency

The Pajaro Valley Water Management Agency (PVWMA) was formed in 1984 and was charged with protecting and managing the water supplies of the Pajaro Valley and developing additional water supplies necessary to meet existing and future water needs. The PVWMA was formed in response to groundwater overdraft and seawater intrusion problems in the groundwater basin, which were first identified in 1953. The PVWMA service area encompasses approximately 79,000 acres of irrigated agricultural lands and non-irrigated lands in Monterey, San Benito, and Santa Cruz Counties; the City of Watsonville; and the unincorporated communities of Pajaro, Freedom, Corralitos, and Aromas.

Basin Management Plan (BMP) Update Project

The BMP Update is the water supply management plan developed by PVWMA to balance water demands with water supplies in the Pajaro Valley Basin. The draft BMP update will be available in the fall of 2001 (the last version, entitled the draft Basin Management Plan 2000, was published May 30, 2000). The BMP Update modifies water supply planning information presented in previous studies (including the Basin Management Plan, 1993), defines water supply planning objectives, and outlines a Local-Import Alternative and a Local-Only Alternative. The Proposed Actions to be evaluated in the EIS (connection of a pipeline to the Santa Clara Conduit, the delivery to and use of CVP water in the Pajaro Valley, and the funding for the design, planning, and construction of a recycled water facility) are associated primarily with the Local-Import Alternative; however, Federal funding for a recycled water facility is proposed under both alternatives. The Local-Import Alternative involves the following improvements:

1. Groundwater Banking Pipeline. A 23-mile-long, 54-inch-diameter pipeline is proposed to link the Pajaro Valley with the Santa Clara Conduit of the San Felipe water system. Water would be transported from the San Felipe system into the Pajaro Valley via the pipeline, allowing PVWMA to transport water from the CVP into the PVWMA service area. CVP water deliveries vary each year depending on water availability. The Proposed Action is based on in-lieu recharge of the groundwater basin. During wet years through normal years, PVWMA would provide surface water supplemented as necessary with the minimum quantity of groundwater necessary to meet demand. Consequently, during wet through normal years, the groundwater basin would be allowed to recharge. During dry to critically dry years when CVP water deliveries are cut back, PVWMA would rely on a commensurately greater quantity of groundwater to meet demand.

2. Water Recycling Facilities. Tertiary treatment facilities, a pumping plant, and an associated distribution pipeline would be constructed at the existing Watsonville Wastewater Treatment Plant to provide a local water supply. To ensure that the quality of the recycled water would be sufficient for irrigating crops in the Pajaro Valley, the water would be blended with CVP water or groundwater. This is also a component of the Local-Only Alternative; however, the Local-Only Alternative does not include receipt of CVP water and, consequently, groundwater and local surface supplies would be used for blending.

Previous Environmental Review

PVWMA has already conducted an environmental review pursuant to CEQA and (NEPA) for components of the Local-Import Alternative, described below.

• Final Program Environmental Impact Report on the Pajaro Valley Water Basin Management Plan, certified by the PVWMA Board of Directors in December 1993. In 1993, PVWMA adopted a Basin Management Plan to identify a preferred water supply alternative for meeting supply needs. A programmatic EIR (PEIR) was developed for the BMP, which addressed water import and local supply concepts at a programmatic level.

• PVWMA Local Water Supply and Distribution Final Environmental Impact Report, certified by the PVWMA Board of Directors in May 1999. This document relied on the 1993 PEIR and further served as a project EIR, providing detailed, site-specific project-level impact and mitigation analysis for proposed local project components, and supported discretionary approvals and implementation without the need for further CEQA review. The local projects evaluated at a project-level of detail in that EIR include Harkins Slough, Murphy Crossing, College Lake, and the Coastal and Inland Distribution Systems. The EIR also evaluated treated effluent conveyance pipelines, but did not evaluate implementation of tertiary treatment and pumping facilities. Consequently, implementation of tertiary treatment and pumping facilities at the City of Watsonville's Wastewater Treatment Plant (WWTP) will be evaluated at a project-level of detail in the BMP Update EIR.

• CVP Water Supply Contract Assignment from Mercy Springs Water District (Contract No. 14-06-200-3365A) to Pajaro Valley Water Management Agency Final Environmental Assessment and Final Finding of No Significant Impact, approved by the U.S. Department of the Interior, Bureau of Reclamation, on November 6, 1998. The Proposed Action evaluated in this document was the assignment of a portion of the Mercy Springs Water District's CVP Contract to PVWMA.

The purpose of the scoping meeting is to receive comments regarding the appropriate scope of the EIS. PVWMA staff will make a brief presentation to describe the proposed project, its purpose and need, project alternatives, and scenarios for construction and operation. The public may comment on the environmental issues to be addressed in the EIS. If necessary due to large attendance, comments will be limited to 5 minutes per speaker.

Reclamation practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: July 16, 2001.
Frank Michny,
Regional Environmental Officer.

[FR Doc. 01-19440 Filed 8-2-01; 8:45 am]

BILLING CODE 4310-MN-P